DEPARTMENT OF HEALTH AND HUMAN SERVICES

Office of the Secretary

Findings of Misconduct in Science

AGENCY: Office of the Secretary, HHS.

ACTION: Notice.

SUMMARY: Notice is hereby given that the Office of Research Integrity (ORI) and the Assistant Secretary for Health have taken final action in the following case:

Kui Zhu, Ph.D., Cleveland Clinic Research Foundation: Based on accumulated evidence including the Cleveland Clinic Research Foundation (CCF) investigation report (CCF Report) and additional analysis and information obtained by the Office of Research Integrity (ORI) during its oversight review of the CCF Report, the U.S. Public Health Service (PHS) found that Kui Zhu, Ph.D., former postdoctoral fellow, CCF, engaged in misconduct in science by intentionally and knowingly fabricating and falsifying data for figures in two publications and with research funded by National Cancer Institute (NCI), National Institutes of Health (NIH), grants R21 CA84038, R01 CA76204, and T32 CA09056.

ORI has implemented the following administrative actions for a period of three (3) years, beginning June 7, 2006:

(1) Dr. Zhu is debarred from any contracting or subcontracting with any agency of the United States Government and from eligibility or involvement in nonprocurement programs of the United States Government as defined in the debarment regulations at 45 CFR part 76; and

(2) Dr. Zhu is prohibited from serving in any advisory capacity to PHS, including but not limited to service on any PHS advisory committee, board, and/or peer review committee, or as a consultant.

FOR FURTHER INFORMATION CONTACT: Director, Division of Investigative Oversight, Office of Research Integrity, 1101 Wootton Parkway, Suite 750, Rockville, MD 20852, (240) 453-8800.

Chris B. Pascal,
Director, Office of Research Integrity.

[FR Doc. E6-14054 Filed 8-23-06; 8:45 am]

BILLING CODE 4150-31-P